DEPARTMENT OF TRANSPORTATION

Research and Special Programs Administration

49 CFR Part 172

[Docket No. RSPA-2004-18575 (HM-189X)]

RIN 2137-AE03

Hazardous Materials Regulations: Minor Editorial Corrections

AGENCY: Research and Special Programs Administration (RSPA), DOT.

ACTION: Final rule; editorial corrections.

SUMMARY: This final rule corrects errors in the 49 CFR 172.101 Hazardous Materials Table (HMT) made during the recent publication of 49 CFR Parts 100 to 185. In the most recent publication of 49 CFR Parts 100-185, a number of entries in the HMT were inadvertently removed.

DATES: The effective date of the amendments adopted herein is October 1, 2004. Immediate compliance is authorized.

FOR FURTHER INFORMATION CONTACT: T. Glenn Foster, Office of Hazardous Materials Standards, (202) 366-8553, Research and Special Programs Administration, U.S. Department of Transportation, 400 Seventh Street, SW., Washington, DC 20590-0001.

SUPPLEMENTARY INFORMATION:

I. Background

This final rule corrects the inadvertent deletion of certain entries in the § 172.101 Hazardous Materials Table (HMT) primarily made during the recent publication of 49 CFR Parts 100 to 185. These errors were the result of a misunderstanding concerning the amendatory language in final rules that affected the HMT, in particular, Docket HM-215E (July 31, 2003; 68 FR 44992).

The amendments contained in this rule are minor changes and do not impose new requirements. Because these amendments do not impose new requirements, notice and public procedure are unnecessary. The following is a summary of the amendments made under this final rule.

We are amending the HMT to correct certain entries as follows:

1. The following entries, that were inadvertently removed, are being reinserted:

—“Adhesives, containing a flammable liquid, UN1133,” Packing Groups I and III;

—“Coating Solution (includes surface treatments or coatings used for industrial or other purposes such as vehicle undercoating, drum or barrel lining) , UN1139,” Packing Groups I and III;

—“Extracts, aromatic, liquid, UN1169,” Packing Group III;

—“Flammable liquids, n.o.s., UN1993,” Packing Groups II and III;

—“Hydrobromic acid, with not more than 49 percent hydrobromic acid, UN1788,” Packing Group II;

—“Hydrocarbons, liquid, n.o.s., UN3295,” Packing Groups II and III;

—“Organochlorine pesticides, liquid, toxic, flammable, flash point not less than 23 degrees C, UN2995,” Packing Group I;

—“Paint including paint, lacquer, enamel, stain, shellac solutions, varnish, polish, liquid filler, and liquid lacquer base, UN1263,” Packing Groups I and III;

—“Paint related material including paint thinning, drying, removing, or reducing compound, UN1263,” Packing Groups I and III;

—“Pentanes, UN1265,” Packing Groups I;

—“Perfumery products with flammable solvents, UN1266,” Packing Group III;

—“Printing ink, flammable or Printing ink related material (including printing ink thinning or reducing compound), flammable, UN1210,” Packing Groups I and III;

—“Resin solution, flammable, UN1866,” Packing Groups I and III;

—“Rubber solution, UN1287,” Packing Group III;

—Tars, liquid, including road asphalt and oils, bitumen and cut backs, UN1999,” Packing Group III; and

—“Wood preservatives, liquid, UN1306,” Packing Group III.

2. The first occurrence of the entry “Organochlorine pesticides, liquid, toxic, flammable, flash point not less than 23 degrees C, UN2995,” Packing Group III, is removed.

3. The entry “[PG II].,” immediately preceding the entry “Pentanes, UN1265,” is removed.

4. The entry “Gasohol gasoline mixed with ethyl alcohol, with not more than 20 percent alcohol, NA1203,” Packing Group I, is replaced with “Gasohol gasoline mixed with ethyl alcohol, with not more than 20 percent alcohol, NA1203,” Packing Group II.

II. Rulemaking Analyses and Notices

A. Executive Order 12866 and DOT Regulatory Policies and Procedures

This final rule is not a significant regulatory action under section 3(f) of Executive Order 12866 and therefore, was not reviewed by the Office of Management and Budget. This final rule is not a significant rule under the Regulatory Policies and Procedures of the Department of Transportation [44 FR 11034]. Because there is no impact of this rule, preparation of a regulatory impact analysis is not warranted.

B. Executive Order 13132

RSPA is not aware of any State, local, or Indian tribe requirements that would be preempted by correcting editorial errors and making minor regulatory changes. This final rule does not have sufficient federalism impacts to warrant the preparation of a federalism assessment

C. Executive Order 13175

This final rule was analyzed in accordance with the principles and criteria contained in Executive Order 13175 (“Consultation and Coordination with Indian Tribal Governments”). Because this final rule does not have tribal implications, does not impose substantial direct compliance costs, and is required by statute, the funding and consultation requirements of Executive Order 13175 do not apply.

D. Regulatory Flexibility Act

I certify that this final rule will not have a significant economic impact on a substantial number of small entities. This rule makes minor editorial changes which will not impose any new requirements on persons subject to the HMR; thus, there are no direct or indirect adverse economic impacts for small units of government, businesses or other organizations.

E. Paperwork Reduction Act

This final rule does not impose new information collection requirements.

F. Regulation Identifier Number (RIN)

A regulation identifier number (RIN) is assigned to each regulatory action listed in the Unified Agenda of Federal Regulations. The Regulatory Information Service Center publishes the Unified Agenda in April and October of each year. The RIN contained in the heading of this document can be used to cross-reference this action with the Unified Agenda.

G. Unfunded Mandates Reform Act

This final rule does not impose unfunded mandates under the Unfunded Mandates Reform Act of 1995. It does not result in costs of $100 million or more to either State, local or tribal governments, in the aggregate, or to the private sector, and is the least burdensome alternative that achieves the objective of the rule.

List of Subjects in 49 CFR Part 172

Education, Hazardous materials transportation, Hazardous waste, Labeling, Markings, Packaging and containers, Reporting and recordkeeping requirements.

In consideration of the foregoing, 49 CFR Chapter I is amended as follows:

PART 172—HAZARDOUS MATERIALS TABLE, SPECIAL PROVISIONS, HAZARDOUS MATERIALS COMMUNICATIONS, EMERGENCY RESPONSE INFORMATION, AND TRAINING REQUIREMENTS

1. The authority citation for part 172 continues to read as follows:

Authority: 49 U.S.C. 5101-5127; 49 CFR 1.53.

§ 172.101 [Amended]

2. In § 172.101, the Hazardous Materials Table is amended as follows:

§ 172.101—Hazardous Materials Table
Symbols | Hazardous materials descriptions and proper shipping names | Hazard class or division | Identification numbers | PG | Label codes | Special provisions (§ 172.102) | (8) Packaging (§ 173.***): Exceptions | (8) Packaging (§ 173.***): Nonbulk | (8) Packaging (§ 173.***): Bulk | (9) Quantity limitations: Passenger aircraft/rail | (9) Quantity limitations: Cargo aircraft only | (10) Vessel stowage: Location | (10) Vessel stowage: Other
(1) | (2) | (3) | (4) | (5) | (6) | (7) | (8A) | (8B) | (8C) | (9A) | (9B) | (10A) | (10B)
| [REMOVE:]
* * * * * * *
| Adhesives, containing a flammable liquid | 3 | UN1133 | II | 3 | 149, B52, IB2, T4, TP1, TP8 | 150 | 173 | 242 | 5 L | 60 L | B
* * * * * * *
| Coating solution (includes surface treatments or coatings used for industrial or other purposes such as vehicle undercoating, drum or barrel lining) | 3 | UN1139 | II | 3 | 149, IB2, T4, TP1, TP8 | 150 | 202 | 242 | 5 L | 60 L | B
|  |  |  | II | 3 | IB2, T4, TP1, TP8 | 150 | 202 | 242 | 5 L | 60 L | B
|  |  |  | III | 3 | B1, IB3, T2, TP1 | 150 | 203 | 242 | 60 L | 220 L | A
* * * * * * *
| Extracts, aromatic, liquid | 3 | UN1169 | II | 3 | 149, IB2, T4, TP1, TP8 | 150 | 202 | 242 | 5 L | 60 L | B
* * * * * * *
G | Flammable liquids, n.o.s | 3 | UN1993 | I | 3 | T11, TP1, TP27 | 150 | 201 | 243 | 1 L | 30 L | E
* * * * * * *
D | Gasohol gasoline mixed with ethyl alcohol, with not more than 20 percent alcohol | 3 | NA1203 | I | 3 | 144. | 150 | 202 | 242 | 5 L | 60 L | E
* * * * * * *
| Hydrobromic acid, with more than 4 percent hydrobromic acid 9 | 8 | UN1788 |  |  |  |  |  |  |  |  |  |
* * * * * * *
| Hydrobromic acid, with not more than 49 percent hydrobromic acid | 8 | UN1788 | III | 8 | IB3, T4, TP1 | 154 | 203 | 241 | 5 L | 60 L | C | 8
* * * * * * *
| Hydrocarbons, liquid, n.o.s | 3 | UN3295 | I | 3 | T11, TP1, TP8, TP28 | 150 | 201 | 243 | 1 L | 30 L | E
* * * * * * *
| Organochlorine pesticides, liquid, toxic, flammable, flash point not less than 23 degrees C | 6.1 | UN2995 | III | 6.1, 3 | B1, IB3, T7, TP2, TP28 | 153 | 203 | 242 | 60 L | 220 L | A | 40
|  |  | UN2995 | II | 6.1, 3 | IB2, T11, TP2, TP13, TP27 | None | 202 | 243 | 5 L | 60 L | B | 40
|  |  | UN2995 | III | 6.1, 3 | B1, IB3, T7, TP2, TP28 | 153 | 203 | 242 | 60 L | 220 L | A | 40
* * * * * * *
| Paint including paint, lacquer, enamel, stain, shellac solutions, varnish, polish, liquid filler, and liquid lacquer base | 3 | UN1263 | II | 3 | I49, B52, IB2, T4, TP1, TP8 | 150 | 173 | 242 | 5 L | 60 L | B
* * * * * * *
| Paint related material including paint thinning, drying, removing, or reducing compound | 3 | UN1263 | II | 3 | 149, B52, IB2, T4, TP1, TP8 | 150 | 173 | 242 | 5 L | 60 L | B
* * * * * * *
| [PG II only]
| Pentanes | 3 | UN1265 | II | 3 | IB2, T4, TP1 | 150 | 202 | 243 | 5 L | 60 L | E
* * * * * * *
| Perfumery products with flammable solvents | 3 | UN1266 | II | 3 | 149, IB2, T4, TP1, TP8 | 150 | 202 | 242 | 15 L | 60 L | B
* * * * * * *
| Printing ink, flammable or Printing ink related material (including printing ink thinning or reducing compound), flammable | 3 | UN1210 | II | 3 | 149, IB2, T4, TP1, TP8 | 150 | 173 | 242 | 5 L | 60 L | B
* * * * * * *
| Resin solution, flammable | 3 | UN1866 | II | 3 | 149, B52, IB2, T4, TP1, TP8 | 150 | 173 | 242 | 5 L | 60 L | B
* * * * * * *
| Rubber solution | 3 | UN1287 | II | 3 | 149, IB2, T4, TP1, TP8 | 150 | 202 | 242 | 5 L | 60 L | B
* * * * * * *
| Tars, liquid including road asphalt and oils, bitumen and cut backs | 3 | UN1999 | II | 3 | 149, B13, IB2, T3, TP3, TP29 | 150 | 202 | 242 | 5 L | 60 L | B
* * * * * * *
| Wood preservatives | 3 | UN1306 | II | 3 | 149, IB2, T4, TP1, TP8 | 150 | 202 | 242 | 5 L | 60 L | B
* * * * * * *
| [ADD:]
* * * * * * *
| Adhesives, containing a flammable liquid | 3 | UN1133 | I | 3 | B42, T11, TP1, TP8, TP27 | 150 | 201 | 243 | 1 L | 30 L | B
|  |  |  | II | 3 | 149, B52, IB2, T4, TP1, TP8 | 150 | 173 | 242 | 5 L | 60 L | B.
|  |  |  | III | 3 | B1, B52, IB3, T2, TP1 | 150 | 173 | 242 | 60 L | 220 L | A.
* * * * * * *
| Coating solution (includes surface treatments or coatings used for industrial or other purposes such as vehicle undercoating, drum or barrel lining) | 3 | UN1139 | I | 3 | T11, TP1, TP8, TP27 | 150 | 201 | 243 | 1 L | 30 L | E
* * * * * * *
|  |  |  | II | 3 | 149, IB2, T4, TP1, TP8 | 150 | 202 | 242 | 5 L | 60 L | B
|  |  |  | III | 3 | B1, IB3, T2, TP1 | 150 | 203 | 242 | 60 L | 220 L | A
* * * * * * *
| Extracts, aromatic, liquid | 3 | UN1169 | II | 3 | 149, IB2, T4, TP1, TP8 | 150 | 202 | 242 | 5 L | 60 L | B
|  |  |  | III | 3 | B1, IB3, T2, TP1 | 150 | 203 | 242 | 60 L | 220 L | A
* * * * * * *
G | Flammable liquids, n.o.s | 3 | UN1993 | I | 3 | T11, TP1, TP27 | 150 | 201 | 243 | 1 L | 30 L | E
|  |  |  | II | 3 | IB2, T7, TP1, TP8, TP28 | 150 | 202 | 242 | 5 L | 60 L | B. |
|  |  |  | III | 3 | B1, B52, IB3, T4, TP1, TP29 | 150 | 203 | 242 | 60 L | 220 L | A. |
* * * * * * *
D | Gasohol gasoline mixed with ethyl alcohol, with not more than 20 percent alcohol | 3 | NA1203 | II | 3 | 144. | 150 | 202 | 242 | 5 L | 60 L | E
* * * * * * *
| Hydrobromic acid, with not more than 49 percent hydrobromic acid | 8 | UN1788 | II | 8 | A3, A6, B2, B15, IB2, N41, T7, TP2 | 154 | 202 | 242 | 1 L | 30 L | C. |
|  |  |  | III | 8 | IB3, T4, TP1 | 154 | 203 | 241 | 5 L | 60 L | C | 8
* * * * * * *
| Hydrocarbons, liquid, n.o.s | 3 | UN3295 | I | 3 | 144, T11, TP1, TP8, TP28 | 150 | 201 | 243 | 1 L | 30 L | E |
|  |  |  | II | 3 | 144, IB2, T7, TP1, TP8, TP28 | 150 | 202 | 242 | 5 L | 60 L | B. |
|  |  |  | III | 3 | 144, B1, IB3, T4, TP1, TP29 | 150 | 203 | 242 | 60 L | 220 L | A. |
* * * * * * *
| Organochlorine pesticides, liquid, toxic, flammable, flash point not less than 23 degrees C | 6.1 | UN2995 | I | 6.1, 3 | T14, TP2, TP13, TP27 | None | 201 | 243 | 1 L | 30 L | B | 40
|  |  |  | II | 6.1, 3 | IB2, T11, TP2, TP13, TP27 | None | 202 | 243 | 5 L | 60 L | B | 40
|  |  |  | III | 6.1, 3 | B1, IB3, T7, TP2, TP28 | 153 | 203 | 242 | 60 L | 220 L | A | 40
* * * * * * *
| Paint including paint, lacquer, enamel, stain, shellac solutions, varnish, polish, liquid filler, and liquid lacquer base | 3 | UN1263 | I | 3 | T11, TP1, TP8 | 150 | 201 | 243 | 1 L | 30 L | E
|  |  |  | II | 3 | 149, B52, IB2, T4, TP1, TP8 | 150 | 173 | 242 | 5 L | 60 L | B
|  |  |  | III | 3 | B1, B52, IB3, T2, TP1 | 150 | 173 | 242 | 60 L | 220 L | A
* * * * * * *
| Paint related material including paint thinning, drying, removing, or reducing compound | 3 | UN1263 | I | 3 | T11, TP1, TP8 | 150 | 201 | 243 | 1 L | 30 L | E
|  |  |  | II | 3 | 149, B52, IB2, T4, TP1, TP8 | 150 | 173 | 242 | 5 L | 60 L | B
|  |  |  | III | 3 | B1, B52, IB3, T2, TP1 | 150 | 173 | 242 | 60 L | 220 L | A
* * * * * * *
| Pentanes | 3 | UN1265 | I | 3 | T11, TP2. | 150 | 201 | 243 | 1 L | 30 L | E. |
|  |  |  | II | 3 | IB2, T4, TP1 | 150 | 202 | 242 | 5 L | 60 L | E
* * * * * * *
| Perfumery products with flammable solvents | 3 | UN1266 | II | 3 | 149, IB2, T4, TP1, TP8 | 150 | 202 | 242 | 5 L | 60 L | B
|  |  |  | III | 3 | B1, IB3, T2, TP1 | 150 | 203 | 242 | 60 L | 220 L | A
* * * * * * *
| Printing ink, flammable or Printing ink related material (including printing ink thinning or reducing compound, flammable) | 3 | UN1210 | I | 3 | T11, TP1, TP8 | 150 | 173 | 243 | 1 L | 30 L | E. |
|  |  |  | II | 3 | 149, IB2, T4, TP1, TP8 | 150 | 173 | 242 | 5 L | 60 L | B. |
|  |  |  | III | 3 | B1, IB3, T2, TP1 | 150 | 173 | 242 | 60 L | 220 L | A. |
* * * * * * *
| Resin solution, flammable | 3 | UN1866 | I | 3 | B52, T11, TP1, TP8 | 150 | 201 | 243 | 1 L | 30 L | E. |
|  |  |  | II | 3 | 149, B52, IB2, T4, TP1, TP8 | 150 | 173 | 242 | 5 L | 60 L | B. |
|  |  |  | III | 3 | B1, B52, IB3, T2, TP1 | 150 | 173 | 242 | 60 L | 220 L | A. |
* * * * * * *
| Rubber solution | 3 | UN1287 | II | 3 | 149, IB2, T4, TP1, TP8 | 150 | 202 | 242 | 5 L | 60 L | B. |
|  |  |  | III | 3 | B1, IB3, T2, TP1 | 150 | 203 | 242 | 60 L | 220 L | A. |
* * * * * * *
| Tars, liquid including road asphalt and oils, bitumen and cut backs | 3 | UN1999 | II | 3 | 149, B13, IB2, T3, TP3, TP29 | 150 | 202 | 242 | 5 L | 60 L | B. |
|  |  |  | III | 3 | B1, B13, IB3, T1, TP3 | 150 | 203 | 242 | 60 L | 220 L | A. |
* * * * * * *
| Wood preservatives | 3 | UN1306 | II | 3 | 149, IB2, T4, TP1, TP8 | 150 | 202 | 242 | 5 L | 60 L | B. |
|  |  |  | III | 3 | B1, IB3, T2, TP1 | 150 | 203 | 242 | 60 L | 220 L | A | 40
* * * * * * *

* * * * *

Issued in Washington, DC, on July 6, 2004, under authority delegated in 49 CFR Part 1.
Samuel G. Bonasso,
Deputy Administrator, Research and Special Programs Administration.

[FR Doc. 04-15766 Filed 7-12-04; 8:45 am]

BILLING CODE 4910-60-P